ENVIRONMENTAL PROTECTION AGENCY

[EPA-HQ-OPP-2005-0098; FRL-8107-1]

Ethyl Parathion; Product Cancellation Order

AGENCY: Environmental Protection Agency (EPA).

ACTION: Notice.

SUMMARY: This notice announces EPA's order for the cancellations, voluntarily requested by the Drexel Chemical Company and accepted by the Agency, of products containing the pesticide ethyl parathion, pursuant to section 6(f)(1) of the Federal Insecticide, Fungicide, and Rodenticide Act (FIFRA), as amended. This cancellation order follows April 27, 2005 Federal Register Notice of Receipt of Requests from the ethyl parathion registrant to voluntarily cancel all their ethyl parathion product registrations. These are the last ethyl parathion products registered for use in the United States. In the April 27, 2005 Notice, EPA indicated that it would issue an order implementing the cancellations and/or amendments to terminate uses, unless the Agency received substantive comments within the 30-day comment period that would merit its further review of these requests, or unless the registrants withdrew their requests within this period. The Agency did not receive any comments on the Notice. Further, the registrant did not withdraw their requests. Accordingly, EPA hereby issues in this notice a cancellation order granting the requested cancellations. Any distribution, sale, or use of the ethyl parathion products subject to this cancellation order is permitted only in accordance with the terms of this order, including any existing stocks provisions.

DATES: The cancellations are effective December 13, 2006.

FOR FURTHER INFORMATION CONTACT: Laura Parsons, Special Review and Reregistration Division (7508P), Office of Pesticide Programs, Environmental Protection Agency, 1200 Pennsylvania Ave., NW., Washington, DC 20460-0001; telephone number: (703) 305-5776; fax number: (703) 305-8005; e-mail address: parsons.laura@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPPT-2005-0098. Publicly available docket materials are available either in the electronic docket at http://www.regulations.gov, or, if only available in hard copy, at the Office of Pesticide Programs (OPP) Regulatory Public Docket in Rm. S-4400, One Potomac Yard (South Building), 2777 S. Crystal Drive Arlington, VA. The hours of operation of this Docket Facility are from 8:30 a.m. to 4 p.m., Monday through Friday, excluding legal holidays. The Docket telephone number is (703) 305-5805.

2. Electronic access. You may access this Federal Register document electronically through the EPA Internet under the Federal Register listings at http://www.epa.gov/fedrgstr/.

II. What Action is the Agency Taking?

This notice announces the cancellation, as requested by registrants, of all end-use and manufacturing-use ethyl parathion products registered under section 3 of FIFRA. These registrations are listed in sequence by registration number in Table 1 of this unit.

Table 1.—Ethyl Parathion Product Cancellations
EPA Registration No. | Product Name
19713-322 | Drexel Seis-TRES 6-3
19713-323 | Drexel Parathion 8
19713-324 | IDA Seis-Tres 6-3
19713-325 | Drexel Parathion 4 EC

Table 2 of this unit includes the name and address of record for the registrant of the products in Table 1 of this unit.

Table 2.—Registrant of Cancelled Ethyl Parathion Products
EPA Company No. | Company Name and Address
19713 | Drexel Chemical Company 1700 Channel Avenue P.O. Box 13327 Memphis, TN 38113-0327

III. Summary of Public Comments Received and Agency Response to Comments

During the public comment period provided, EPA received no comments in response to the April 27, 2005 Federal Register (70 FR 21761; FRL-7709-8) notice announcing the Agency's receipt of the request for voluntary cancellations.

IV. Cancellation Order

Pursuant to FIFRA section 6(f), EPA hereby approves the requested cancellations of ethyl parathion registrations identified in Table 1 of Unit II. Accordingly, the Agency orders that the ethyl parathion product registrations identified in Table 1 of Unit II. are hereby canceled. Any distribution, sale, or use of existing stocks of the products identified in Table 1 of Unit II. in a manner inconsistent with any of the Provisions for Disposition of Existing Stocks set forth in Unit VI. will be considered a violation of FIFRA.

V. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

VI. Provisions for Disposition of Existing Stocks

Existing stocks are those stocks of registered pesticide products which are currently in the United States and which were packaged, labeled, and released for shipment prior to the effective date of the cancellation action. The cancellation order issued in this Notice includes the following existing stocks provisions. Because no product has been produced, sold or distributed for several years, the prohibition on sales, distribution and use of existing stocks is effective immediately.

List of Subjects

Environmental protection, Pesticides and pests.

Dated: December 4, 2006.
Debra Edwards,
Director, Special Review and Reregistration Division, Office of Pesticide Programs.

[FR Doc. E6-20988 Filed 12-12-06; 8:45 am]

BILLING CODE 6560-50-S